DEPARTMENT OF LABOR

Office of the Secretary

Submission for OMB Review; Comment Request

November 13, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comment which:

• Evaluate whether the proposed collection of information is necessary for the proper performance of the functions of the agency, including whether the information will have practical utility;

• Evaluate the accuracy of the agency's estimate of the burden of the proposed collection of information, including the validity of the methodology and assumption used;

• Enhance the quality, utility, and clarity of the information to be collected; and

• Minimize the burden of the collection of information on those who are to respond, including through the use of appropriate automated, electronic, mechanical, or other technological collection techniques or other forms of information technology, e.g., permitting electronic submission of responses.

Type of Review: Reinstatement, with change, of a previously approved collection for which approval has expired.

Agency: Employment and Training Administration.

Title: Job Corps Placement and Assistance Record.

OMB Number: 1205-0035.

Affected Public: Individuals or households; business or other for-profit; not-for-profit institutions; State, Local, or Tribal Government.

Number of Respondents: 62,429.

Estimated Time Per Respondent: 5 to 15 minutes.

Total Burden Hours: 13,567.

Total Annualized Capital/Startup Costs: $176,731.

Total Annual Costs (operating/maintaining systems or purchasing services): $0.

Description: This form is used to obtain information about student training for placement of students in jobs, further education or the military. The forms are prepared by Job Corps Centers and placement specialists for each student separating from Job Corps Centers and have no further impact on the public.

Type of Review: Reinstatement, with change, of a previously approved collection for which approval has expired.

Agency: Bureau of Labor Statistics.

Title: National Longitudinal Survey of Women.

OMB Number: 1220-0110.

Affected Public: Individuals or households.

Number of Respondents: 6,889.

Estimated Time Per Respondent: 61 minutes.

Total Burden Hours: 6,976.

Total Annualized Capital/Startup Costs: $0.

Total Annual Costs (operating/maintaining systems or purchasing services: $0.

Description: The Department of Labor will use this information to help understand and explain the employment activities, unemployment problems, and retirement decisions of women. The mature women currently are ages 64-78 and the young women are ages 47-57. We first interviewed them for the NLS in 1967 and 1968, respectively.

Ira L. Mills,
Departmental Clearance Officer.

[FR Doc. 00-29619 Filed 11-17-00; 8:45 am]

BILLING CODE 4510-30-M